ENVIRONMENTAL PROTECTION AGENCY

40 CFR Part 52

[PA111-4111; FRL-6932-3]

Approval and Promulgation of Air Quality Implementation Plans; Pennsylvania: Determination of Attainment of Ozone Standard in the Pittsburgh and Lancaster Areas and Determination of Applicability of Certain Requirements for the Pittsburgh Area

AGENCY: Environmental Protection Agency (EPA).

ACTION: Proposed rule.

SUMMARY: EPA proposes to determine that the Pittsburgh-Beaver Valley Ozone Nonattainment Area (the Pittsburgh Area) and the Lancaster Ozone Nonattainment Area (the Lancaster Area) have attained the 1-hour ozone National Ambient Air Quality Standard (NAAQS). The Pittsburgh Area, classified as moderate, is comprised of Allegheny, Armstrong, Beaver, Butler, Fayette, Washington, and Westmoreland Counties. The Lancaster Area, classified as marginal, consists of Lancaster County. These determinations are based upon three years of complete, quality-assured, ambient air monitoring data for the years 1998-2000 which indicate that these two have attained the 1-hour ozone NAAQS. On the basis of this determination, EPA is also proposing to determine that certain requirements of the Clean Air Act (the Act) do not apply to the Pittsburgh Area so long as it continues to attain the 1-hour NAAQS for ozone.

DATES: Written comments must be received on or before February 9, 2001.

ADDRESSES: Written comments should be mailed to David L. Arnold, Chief, Ozone & Mobile Sources Branch, Mailcode 3AP21, U.S. Environmental Protection Agency, Region III, 1650 Arch Street, Philadelphia, Pennsylvania 19103. Copies of the documents relevant to this action are available for public inspection during normal business hours at the Air Protection Division, U.S. Environmental Protection Agency, Region III, 1650 Arch Street, Philadelphia, Pennsylvania 19103.

FOR FURTHER INFORMATION CONTACT: Jill Webster, (215) 814-2033, or by e-mail at Webster.Jill@epamail.epa.gov.

Table of Contents

A. What Action is EPA Proposing to Take?

B. Why is EPA Taking This Action?

C. What Would be the Effect of This Action?

D. What is the Background for This Action?

E. What is EPA's Analysis of the Air Quality Data?

F. What Administrative Requirements Were Considered?

A. What Action Is EPA Proposing To Take?

The EPA is proposing to determine that the Pittsburgh and Lancaster Areas have attained the 1-hour NAAQS for ozone. The Lancaster Area, which is classified as marginal, consists of Lancaster County. The Pittsburgh Area, which is classified as moderate, is comprised of Allegheny, Armstrong, Beaver, Butler, Fayette, Washington, and Westmoreland Counties. On the basis of this determination, EPA is also proposing to determine that certain attainment demonstration requirements (section 182(b)(1)), along with certain other related requirements, of Part D of Title I of the Act, specifically the section 172(c)(1) requirements and the section 172(c)(9) contingency measure requirements, are not applicable to the Pittsburgh Area as long as it continues to attain the ozone NAAQS. These requirements have never been applicable to areas classified as marginal, such as the Lancaster Area.

Although EPA is proposing to determine that the air quality in the Pittsburgh and Lancaster Areas meets the 1-hour ozone NAAQS, we are not proposing to redesignate either of these areas to attainment at this time. Under section 107(d)(3)(E) of the Act, there are five criteria that must be met in order for EPA to approve a states's request to redesignate an area from nonattainment to attainment. The determination that an area has attained the NAAQS is the first of those five criteria. There are no redesignation requests currently pending before EPA for either of these areas. The Commonwealth of Pennsylvania is, however, currently preparing its formal redesignation requests and the associated maintenance plans for these areas for submittal to EPA in the near future. Those requests will be the subject of future rulemakings.

B. Why Is EPA Taking This Action?

The EPA proposes to determine that these two areas have attained the ozone NAAQS, because three years of the most recent ambient air monitoring data demonstrate that the 1-hour ozone NAAQS has been attained. The EPA believes it is reasonable to interpret the provisions regarding attainment demonstrations, along with certain other related provisions, so as not to require State Implementation Plan (SIP) submissions, as described further below, if an ozone nonattainment area subject to those requirements is monitoring attainment of the ozone standard, i.e., attainment of the NAAQS is demonstrated with three years of complete, quality-assured, air quality monitoring data. The EPA is basing these determinations upon the most recent three years of complete, quality-assured, ambient air monitoring data for the 1998 to 2000 ozone seasons that demonstrate that the ozone NAAQS has been attained in the Pittsburgh and Lancaster Areas.

C. What Would Be the Effect of This Action?

The requirements of section 172(c)(1) and 182(b)(1) concerning the submission of the ozone attainment demonstration and reasonably available control measure requirements and the requirements of section 172(c)(9) concerning contingency measures for reasonable further progress (RFP) or attainment will not be applicable to the area. This proposal does not revoke the 1-hour NAAQS for ozone in these areas.

EPA is proposing to find that the requirements of section 182(b)(1) and related requirements of section 172(c)(1) and 172(c)(9) do not apply to the area for so long as the area does not monitor any violations of the ozone standard. If, while this proposal is pending, a violation of the ozone NAAQS is monitored in these nonattainment areas (consistent with the requirements contained in 40 CFR Part 58 and recorded in AIRS) the EPA would not issue a final determination of attainment for the affected area. If the area remains in attainment and EPA issues a final determination of attainment, a subsequent monitored violation would also mean that the area would thereafter have to address the requirements of section 182(b)(1) and section 172(c)(9), since the basis for the determination that they do not apply would no longer exist.

D. What Is the Background for This Action?

Subpart 2 of part D of Title I of the Act contains various air quality planning and SIP submission requirements for ozone nonattainment areas. The EPA believes it is reasonable to interpret provisions regarding RFP and attainment demonstrations, along with certain other related provisions, so as not to require SIP submissions if an ozone nonattainment area subject to those requirements is monitoring attainment of the ozone standard (i.e., attainment of the NAAQS is demonstrated with three years, of complete, quality-assured, air quality monitoring data). EPA has interpreted the general provision of subpart 1 of part D of Title I (sections 171 and 172) so as not to require the submission of SIP revisions concerning RFP, attainment demonstrations, or contingency measures. As explained in a memorandum dated May 10, 1995 from John S. Seitz, Director, Office of Air Quality Planning and Standards to the Regional Air Division Directors, entitled “Reasonable Further Progress, Attainment Demonstration, and Related Requirements for Ozone Nonattainment Areas Meeting the Ozone National Ambient Air Quality Standard”, EPA believes it is appropriate to interpret the more specific RFP, attainment demonstration and related provisions of subpart 2 in the same manner. (See Sierra Club v. EPA, 99 F.3d 1551 (10th Cir. 1996))

The attainment demonstration requirements of section182(b)(1) require that the plan provide for “such specific annual reductions in emissions * * * as necessary to attain the national primary ambient air quality standard by the attainment date applicable under this Act.” If an area has in fact monitored attainment of the standard, EPA concludes there is no need for an area to make a further submission containing additional measures to achieve attainment. This is also consistent with the interpretation of certain section 172(c) requirements provided by EPA in the General Preamble to Title I where EPA stated there that no other measures to provide for attainment would be needed by areas seeking redesignation to attainment since “attainment will have been reached,” (57 FR at 13564, see also September 1992 Calcagni memorandum at page 6.) Upon attainment of the NAAQS, the focus of state planning efforts shifts to maintenance of the NAAQS and the development of a maintenance plan under section 175A.

Similar reasoning applies to other related provisions of subpart 2, including the contingency measure requirements of section 172(c)(9) of the Act. The EPA has previously interpreted the contingency measures requirements of section 172(c)(9) as no longer being applicable once an area has attained the standard since those “contingency measures are directed at ensuring RFP and attainment by the applicable date” (57 FR 13564).

The Commonwealth must continue to operate an appropriate air quality monitoring network, in accordance with 40 CFR Part 58, to verify the attainment status of the area. The air quality data relied upon to determine that the area is attaining the 1-hour ozone standard must be consistent with 40 CFR part 58, to verify the attainment status of the area. The air quality data relied upon to determine that the area is attaining the 1-hour ozone standard must be consistent with 40 CFR Part 58 requirements and other relevant EPA guidance and recorded in EPA's Aerometric Information Retrieval System (AIRS).

Furthermore, the determinations of these actions will not shield an area from future EPA action to require emissions reductions from sources in the area where there is evidence, such as photochemical grid modeling, showing that emissions from sources in the area contribute significantly to nonattainment in, or interfere with maintenance by, other nonattainment areas (see section 110(a)(2)(D)). EPA has authority under sections 110(a)(2)(A) and 110(a)(2)(D) to require such emission reductions as necessary and appropriate to deal with transport situations.

E. What Is EPA's Analysis of the Air Quality Data?

EPA has reviewed the ambient air monitoring data for ozone (consistent with the requirements contained in 40 CFR Part 58 and recorded in AIRS) for the Pittsburgh and Lancaster nonattainment areas in the Commonwealth of Pennsylvania from 1998 through the present time. On the basis of that review EPA has concluded that both areas attained the 1-hour ozone standard during the 1998-2000 period and both areas continue to attain the standard through the present time.

The current design value for the Pittsburgh nonattainment area, computed using ozone monitoring data for 1998 through 2000 is 123 parts per billion. The average annual number of expected exceedances is 1.0 for that same time period. The current design value for the Lancaster area, also computed using ozone monitoring data for 1998 through 2000 is 121 parts per billion. The average annual number of expected exceedances for the Lancaster nonattainment area is 0.67 for that same time period. An area is considered in attainment of the standard if the average annual number of expected exceedances is less than or equal to 1.0. Thus, these areas are no longer recording violations of the 1-hour air quality standard for ozone. A more detailed summary of the air quality data recorded for the Pittsburgh and Lancaster Areas is provided in the Technical Support Document (TSD) for this action.

F. What Administrative Requirements Were Considered?

Under Executive Order 12866 (58 FR 51735, October 4, 1993), this proposed action is not a “significant regulatory action” and therefore is not subject to review by the Office of Management and Budget. This action merely proposes to determine that air quality meets federal requirements and imposes no additional requirements. Accordingly, the Administrator certifies that this proposed rule will not have a significant economic impact on a substantial number of small entities under the Regulatory Flexibility Act (5 U.S.C. 601 et seq.). Because this rule proposes to determine that air quality meets federal requirements and does not impose any additional enforceable duty, it does not contain any unfunded mandate or significantly or uniquely affect small governments, as described in the Unfunded Mandates Reform Act of 1995 (Pub. L. 104-4). For the same reason, this proposed rule also does not significantly or uniquely affect the communities of tribal governments, as specified by Executive Order 13084 (63 FR 27655, May 10, 1998). This proposed rule will not have substantial direct effects on the States, on the relationship between the national government and the States, or on the distribution of power and responsibilities among the various levels of government, as specified in Executive Order 13132 (64 FR 43255, August 10, 1999), because it merely proposes to determine that air quality meets federal requirements and does not alter the relationship or the distribution of power and responsibilities established in the Clean Air Act. This proposed rule also is not subject to Executive Order 13045 (62 FR 19885, April 23, 1997), because it is not economically significant. In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. As required by section 3 of Executive Order 12988 (61 FR 4729, February 7, 1996), in issuing this proposed rule, EPA has taken the necessary steps to eliminate drafting errors and ambiguity, minimize potential litigation, and provide a clear legal standard for affected conduct. EPA has complied with Executive Order 12630 (53 FR 8859, March 15, 1988) by examining the takings implications of the rule in accordance with the “Attorney General's Supplemental Guidelines for the Evaluation of Risk and Avoidance of Unanticipated Takings” issued under the executive order. This proposed rule to determine that the Pittsburgh and Lancaster areas have attained that ozone NAAQS and the proposed determination as to the applicability of certain requirements, does not impose an information collection burden under the provisions of the Paperwork Reduction Act of 1995 (44 U.S.C. 3501 et seq.).

List of Subjects in 40 CFR Part 52

Environmental protection, Air pollution control, Hydrocarbons, Intergovernmental relations, Nitrogen dioxide, Ozone.

Dated: December 21, 2000.
Bradley M. Campbell,
Regional Administrator, Region III.

[FR Doc. 01-695 Filed 1-9-01; 8:45 am]

BILLING CODE 6560-50-U